DEPARTMENT OF HEALTH AND HUMAN SERVICES

Centers for Disease Control and Prevention

Breast and Cervical Cancer Early Detection and Control Advisory Committee: Notice of Charter Renewal

This gives notice under the Federal Advisory Committee Act (Pub. L. 92-463) of October 6, 1972, that the Breast and Cervical Cancer Early Detection and Control Advisory Committee, Department of Health and Human Services, has been renewed for a 2-year period through September 12, 2010.

For information, contact Debra Younginer, Executive Secretary, Breast and Cervical Cancer Early Detection and Control Advisory Committee, Department of Health and Human Services, 4770 Buford Highway, NE., Mailstop K57, Chamblee, Georgia 30341, telephone (770) 488-1074; fax (770) 488-3230.

The Director, Management Analysis and Services Office, has been delegated the authority to sign Federal Register notices pertaining to announcements of meetings and other committee management activities, for both the Centers for Disease Control and Prevention and the Agency for Toxic Substances and Disease Registry.

Dated: October 1, 2008.
Elaine L. Baker,
Director, Management Analysis and Services Office, Centers for Disease Control and Prevention.

[FR Doc. E8-23815 Filed 10-7-08; 8:45 am]

BILLING CODE 4163-18-P